DEPARTMENT OF DEFENSE

Office of the Secretary

Defense Science Board

AGENCY: Department of Defense.

ACTION: Notice of advisory committee meeting.

SUMMARY: The Defense Science Board Task Force on Aerial Refueling Requirements will meet in closed session on February 17-18, 2004; March 9-10, 2004; and April 6-7, 2004, at Strategic Analysis Inc., 3601 Wilson Boulevard, Arlington, VA. The Task Force will evaluate current aerial refueling capability and future Department of Defense (DoD) aerial refueling requirements. The Task Force will assess current and future requirements with respect to both legacy systems and missions, and take into account proposed future systems and capabilities.

The mission of the Defense Science Board is to advise the Secretary of Defense and the Under Secretary of Defense for Acquisition, Technology & Logistics on scientific and technical matters as they affect the perceived needs of the Department of Defense. Specifically, using best estimates of requirements for 2010, 2020, and 2030, the Task Force will assess the following options with respect to DoD aerial refueling capability: (1) Retain the requisite number of assets to maintain current capability; (2) perform service life extension on the requisite number of existing aircraft; (3) acquire new refueling capabilities; and (4) evaluate other methods to address refueling needs.

In accordance with section 10(d) of the Federal Advisory Committee Act, Pub. L. 92-463, as amended (5 U.S.C. App. II), it has been determined that these Defense Science Board Task Force meetings concern matters listed in 5 U.S.C. 552b(c)(1) and that, accordingly, the meetings will be closed to the public.

Due to critical mission requirements and the short timeframe to accomplish this review, there is insufficient time to provide timely notice required by section 10(a)(2) of the Federal Advisory Committee Act and subsection 101-6.1015(b) of the GSA Final Rule on Federal Advisory Committee Management, 41 CFR part 101-6, which further requires publication at least 15 calendar days prior to the first meeting of the Task Force on Aerial Refueling Requirements.

Dated: February 3, 2004.
L.M. Bynum,
Alternate OSD Federal Register Liaison Officer, Department of Defense.

[FR Doc. 04-2701 Filed 2-6-04; 8:45 am]

BILLING CODE 5001-06-M